DEPARTMENT OF COMMERCE

National Oceanic and Atmospheric Administration

[RTID 0648-XE370]

Endangered and Threatened Species; File No. 27106

AGENCY: National Marine Fisheries Service (NMFS), National Oceanic and Atmospheric Administration (NOAA), Commerce.

ACTION: Notice; issuance of permit.

SUMMARY: Notice is hereby given that the North Carolina Department of Marine Fisheries (NCDMF) has been issued a permit for the incidental take of Endangered Species Act listed sea turtles and sturgeon associated with the otherwise lawful commercial inshore gillnet fishery in North Carolina.

ADDRESSES: The incidental take permit, final environmental assessment, and other related documents are available on the NMFS Office of Protected Resources website at https://www.fisheries.noaa.gov/action/incidental-take-permit-north-carolina-division-marine-fisheries-sea-turtles-and-sturgeon.

FOR FURTHER INFORMATION CONTACT: Celeste Stout, NMFS, Office of Protected Resources at celeste.stout@noaa.gov, 301-427-8403.

SUPPLEMENTARY INFORMATION: Section 9 of the ESA and Federal regulations prohibit the `taking' of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA provides a mechanism for authorizing incidental take of listed species. NMFS regulations governing permits for threatened and endangered species are located in 50 CFR 222.307.

Species Covered in This Permit

Kemp's ridley (Lepidochelys kempii), hawksbill (Eretmochelys imbricata), leatherback (Dermochelys coriacea) sea turtles; North Atlantic and South Atlantic distinct population segments (DPSs) of green (Chelonia mydas) sea turtles; Northwest Atlantic Ocean DPS of loggerhead (Caretta caretta) sea turtles; New York Bight, Chesapeake, Carolina, and South Atlantic DPSs of Atlantic sturgeon (Acipenser oxyrinchus oxyrinchus); and and shortnose sturgeon (Acipenser brevirostrum).

Background

NMFS received a draft permit application and conservation plan from NCDMF on June 22, 2022. Based on our review of the draft application, we requested further information and clarification on their minimization, monitoring, and mitigation measures and take requests. After several draft submissions and reviews, on December 2, 2022, NCDMF submitted a complete revised application for the incidental take of ESA-listed sea turtles and sturgeon. On December 22, 2022, we published a notice of receipt (87 FR 78659) of application and conservation plan from NCDMF for an incidental take permit. In that notice, we made the Incidental Take Permit (ITP) application and associated conservation plan available for public comment during a 30-day public comment period. Subsequently, we received a request to extend the public comment period. NMFS provided a 30-day extension (88 FR 3971, January 23, 2023) to the comment period, which closed on February 22, 2023. We received 231 comments on the application and conservation plan and responses to these comments are available in the draft Environmental Assessment (EA).

On August 10, 2023, a Federal Register notice was published to inform the public of the availability of, and request comments on, the draft EA (88 FR 54303). The public comment period ended on September 11, 2023, and 22 comments were received. The comments received and their accompanying responses are located in appendix D of the final EA. Comments received were considered and any revisions needed to address comments were incorporated in the final EA and NCDMF's final ITP application and conservation plan.

NMFS has issued the requested incidental take permit under the authority of the ESA of 1973, as amended (16 U.S.C. 1531 et seq.) and the regulations governing the taking, importing, and exporting of endangered and threatened species (50 CFR parts 222-226).

Incidental takes by species in rolling 2-year (ITP year) intervals or ITP duration that are authorized under the permit were based on annual take values from model predictions or observed counts based on previous interaction data for the duration of requested ITP (10 years; Please see section 7.A.2 Estimation of Incidental Takes of the conservation plan). Authorized takes include the total number of predicted takes across the fishery whenever possible; otherwise takes are based on counts of observed takes. Takes are either combined or separate for mesh-size category and disposition of the incidentally captured animals. Mesh-size categories are large (≥5 Inches Stretched Mesh (ISM), ≥12.7 Centimeters Stretched Mesh (CSM) and small (<5 ISM, <12.7 CSM).

Table 1—Authorized Takes Under Permit No. 27106
Species | Mesh-size category | Disposition | Predicted or observed takes | Requested 2-year rolling take
Atlantic Sturgeon | Large & Small | Live | Predicted | 436
| Large & Small | Dead | Observed | 6
Green sea turtle (North and South Atlantic DPSs) | Large & Small | Live | Predicted | 542
| Large & Small | Dead | Predicted | 170
Kemp's ridley sea turtle | Large | Live | Observed | 10
| Large | Dead | Observed | 4
| Small | Live or Dead | Observed | 4
Loggerhead sea turtle (Northwest Atlantic Ocean DPS) | Large & Small | Live or Dead | Observed | 4

Species | Mesh-size category | Disposition | Predicted or observed takes | Total take over 10-year permit
Shortnose sturgeon | Large & Small | Live or Dead | Observed | 4
Hawksbill sea turtle | Large & Small | Live or Dead | Observed | 2
Leatherback sea turtle | Large & Small | Live or Dead | Observed | 2

Below we describes the approximate assignment of DPS from the predicted number and observed count of Atlantic sturgeon take by live or dead status across the 10 years of the requested ITP. Individuals <500 mm total length (TL) and ≥1,500 mm TL are assumed to belong to the DPS where they were collected (ASMFC 2017) because individuals of these sizes are generally regarded as juveniles natal to those locations but not large enough to leave the river or adults that are most likely returning to their natal rivers to reproduce. Thus, based on previous interactions, 13.1 percent of total bycatch could be assigned to the Carolina DPS without further evaluation, but the correct DPS for the remaining portion of bycatch is unknown. For the remaining 86.8 percent of the predicted numbers, DPS assignment was based on proportions provided in Kazyk et al. (2021) for the geographic area “Mid Riverine/Estuarine”.

Approximate assignment of DPS from the predicted number and observed count of Atlantic sturgeon takes by live or dead status across the 10 years of the ITP are indicated in the table below. Take of Atlantic sturgeon will affect four DPSs, at a total rate up to 15.9 percent New York Bight DPS, 4.2 percent Chesapeake Bay DPS, 66.2 percent Carolina DPS, and 13.8 percent South Atlantic DPS.

Table 2—Approximate Assignment of DPS od Atlantic Sturgon Takes
Atlantic sturgeon disposition | Predicted or observed counts | Takes across 10 years | New York Bight DPS | Chesapeake DPS | Carolina DPS | South atlantic DPS
Live | Predicted | 2,180 | 346 | 91 | 1,443 | 300
Dead | Observed Counts | 30 | 5 | 1 | 20 | 4

Due to uncertainty about the exact proportion of each DPS in the inshore waters of North Carolina, the above breakdown may not perfectly represent the actual proportion of each DPS. This expected variation is influenced by natural seasonal and annual fluctuations in the proportions of each DPS. Therefore, the take estimates provided for each DPS do not aim to precisely estimate the proportion of each DPS to be taken.

Conservation Plan

NCDMF's conservation plan includes measures to minimize, monitor, and mitigate the incidental take of ESA-listed sea turtles and sturgeon. The conservation plan addresses gill net fisheries operating in estuarine waters and deploying anchored gill nets as regulated through fisheries rules adopted by the North Carolina Marine Fisheries Commission and proclamations issued by the NCDMF director. Regulations include mandatory attendance, yardage limits, mesh size restrictions, a minimum distance between fishing operations, gear marking requirements, soak-time restrictions, net shot limits, net height tie-down requirements, closed areas, and monitoring and reporting requirements. The conservation plan includes an adaptive management and monitoring program, fisheries reduction, outreach, and timely response to “hotspots” where sturgeon and/or sea turtle interactions are unusually high.

Additionally, NCDMF will commit funds of up to $2,000 per year to purchase Passive Integrated Transponder (PIT) tags, which equates to approximately 100 PIT tags per year. As part of their Observer Program sampling protocol, fin clips are taken from live and dead sturgeon. These samples are stored until they can be submitted for genetic analysis and included in the Atlantic Coast Sturgeon Tissue Research Repository (ACSTRR) housed at the United States Geological Survey, Leetown Science Center. The NCDMF will commit up to $3,000 per year to fund genetic analysis; at approximately $100 per sample, this funding provides for the analysis of approximately 30 fin clips per year. The NCDMF will consult with NMFS to ensure samples collected during the current ITP and future samples collected under the requested ITP are appropriately selected based on criteria such as sturgeon length, location, and season. Should fewer than 30 fin clips be collected for a given year, any funds not expended from this allocation could be used for analysis of historical samples provided by NCDMF.

NCDMF's monitoring program is funded by the North Carolina Commercial Research is also a valuable tool to address data gaps and inform management decisions. The assistance and cooperation of commercial fishery stakeholders in the research can greatly benefit scientific understanding of the species. The NCDMF will continue to support and assist research efforts and facilitate the establishment of relationships with the commercial fishing industry. Also, the NCDMF will help, to the extent possible, respond to sea turtle cold-stun events, which occur in NC with some regularity (Niemuth et al. 2020). During future cold-stun events, the NCDMF will help provide transportation of staff, supplies, and turtles using Observer Program resources The NCDMF will communicate with the North Carolina Wilflife Resources Commission (NCWRC) about this commitment to ensure they reach out for assistance when needed.

Fishing Resource Fund (G.S. 113-173.1) state appropriations and is supplemented through other sources such as the Atlantic Coastal Cooperative Statistics Program and the National Fish and Wildlife Foundation.

Criteria for Issuing an Incidental Take Permit

Issuance criteria are described in ESA section 10(a)(2)(B) and associated implementing regulations (50 CFR 222.307(c)(2)). Under section 10(a)(2)(B) of the ESA, NMFS shall issue the requested incidental take permit, if NMFS finds that the following criteria are met:

(i) The taking will be incidental;

(ii) The applicant will, to the maximum extent practicable, monitor, minimize, and mitigate the impacts of such taking;

(iii) The taking will not appreciably reduce the likelihood of the survival and recovery of the species in the wild;

(iv) The applicant has amended the conservation plan to include any measures (not originally proposed by the applicant) that the Assistant Administrator determines are necessary or appropriate; and

(v) There are adequate assurances that the conservation plan will be funded and implemented, including any measures required by the Assistant Administrator.

NMFS found that NCDMF met the criteria for the issuance of an incidental take permit, and as such, NMFS issued an incidental take permit to NCDMF for the incidental take of ESA-Listed sea turtles and sturgeon associated with the otherwise lawful commercial inshore gillnet fishery in North Carolina.

Dated: October 4, 2024.
Lisa Manning,
Acting Chief, Endangered Species Conservation Division, Office of Protected Resources, National Marine Fisheries Service.

[FR Doc. 2024-23559 Filed 10-10-24; 8:45 am]

BILLING CODE 3510-22-P